DEPARTMENT OF HEALTH AND HUMAN SERVICES

Food and Drug Administration

21 CFR Part 529

Certain Other Dosage Form New Animal Drugs

CFR Correction

In Title 21 of the Code of Federal Regulations, parts 500 to 599, revised as of April 1, 2004, on page 331, in § 529.1940, paragraph (e)(2)(ii) is corrected beginning in the fourth line, by removing (1) and (2).

[FR Doc. 04-55522 Filed 10-20-04; 8:45 am]

BILLING CODE 1505-01-D